DEPARTMENT OF COMMERCE

National Oceanic and Atmospheric Administration

Proposed Information Collection; Comment Request; Vessel-Marking Requirements in Antarctic Fisheries

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 6, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Patsy A. Bearden, (907) 586-7008 or patsy.bearden@noaa.gov.

SUPPLEMENTARY INFORMATION:

I. Abstract

The owners of U.S.-flagged vessels participating in Antarctic fisheries must mark the vessel with the vessel's official number on the port and starboard sides of the deckhouse or hull, and on a weather deck, visible at a distance at sea and from the air. The information on the vessel is used for enforcement of fishery regulations.

II. Method of Collection

Identification information is displayed on the fishing vessel. No information is collected.

III. Data

OMB Number: 0648-0368.

Form Number: None.

Type of Review: Regular submission.

Affected Public: Business or other for-profits organizations; individuals or households.

Estimated Number of Respondents: 4.

Estimated Time per Response: Fifteen minutes to paint each of the three vessel locations; 45 minutes per vessel.

Estimated Total Annual Burden Hours: 3.

Estimated Total Annual Cost to Public: $45.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 30, 2005.
Gwellnar Banks,
Management Analyst, Office of the Chief Information Officer.

[FR Doc. 05-6667 Filed 4-4-05; 8:45 am]

BILLING CODE 3510-22-P